DEPARTMENT OF THE INTERIOR

National Park Service

[NPS-WASO-DPOL-0111-6600; 0004-SYP]

Meeting of the National Park System Advisory Board

AGENCY: Department of the Interior, National Park Service.

ACTION: Notice of meeting.

SUMMARY: Notice is hereby given in accordance with the Federal Advisory Committee Act, 5 U.S.C. Appendix, and Parts 62 and 65 of title 36 of the Code of Federal Regulations, that the National Park System Advisory Board will meet April 12-13, 2011, in San Francisco, California. The agenda will include the review of proposed actions regarding the National Historic Landmarks Program and the National Natural Landmarks Program. Interested parties are encouraged to submit written comments and recommendations that will be presented to the Board. Interested parties also may attend the Board meeting and upon request may address the Board concerning an area's national significance.

DATES: (a) Written comments regarding any proposed National Historic Landmarks matter or National Natural Landmarks matter listed in this notice will be accepted by the National Park Service until April 4, 2011. (b) The Board will meet on April 12-13, 2011.

Location: The meeting will be held in room Golden Gate C of the Argonaut Hotel, Beach and Jefferson Streets, San Francisco, California 94109, telephone 415-563-0800.

Information: (a) For information concerning the National Park System Advisory Board or to request to address the Board, contact Shirley Sears Smith, Office of Policy, National Park Service, 1201 I Street, NW., 12th Floor, Washington, DC 20005, telephone 202-354-3955, e-mail Shirley_S_Smith@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street, NW., (2280), Washington, DC 20240, e-mail Paul_Loether@nps.gov. (c) To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, e-mail Margi_Brooks@nps.gov.

SUPPLEMENTARY INFORMATION: On April 12, the Board will tour national park sites in the San Francisco area. On April 13, the Board will convene its business meeting at 8:30 a.m., and adjourn at 5 p.m. During the course of the two days, the Board will be addressed by National Park Service Director Jonathan Jarvis and will be briefed by other National Park Service officials regarding education, partnerships, and youth programs; deliberate and make recommendations concerning National Historic Landmarks Program and National Natural Landmarks Program proposals; and receive status briefings on matters pending before committees of the Board.

A. National Historic Landmarks (NHL) Program

NHL Program matters will be considered in the morning session of the business meeting, during which the Board may consider the following:

Nominations for New NHL Designations

Delaware

• Lightship Overfalls, Lewes, DE.

District of Columbia

• Congressional Cemetery, Washington, DC.

Kansas

• Western Branch, National Home for Disabled Volunteer Soldiers, Leavenworth, KS.

Maine

• Olson House, Cushing, ME.

Minnesota

• Grand Mound, Koochiching County, MN.

• Split Rock Light Station, Lake County, MN.

New York

• Woodlawn Cemetery, Bronx, NY.

North Dakota

• Lynch Quarry Site, Dunn County, ND.

Ohio

• Pennsylvania Railroad Depot and Baggage Room, Dennison, OH.

Oklahoma

• Chilocco Indian Agricultural School, Kay County, OK.

• Platt National Park, Murray County, OK.

Oregon

• Aubrey Watzek House, Portland, OR.

Pennsylvania

• Arch Street Friends Meeting House, Philadelphia, PA.

• Kuerner Farm, Delaware County, PA.

• Schaeffer House, Schaefferstown, PA.

South Dakota

• Battle Mountain Branch, National Home for Disabled Volunteer Soldiers, Hot Springs, SD.

Tennessee

• Mountain Branch, National Home for Disabled Volunteer Soldiers, Johnson City, TN.

Utah

• Mountain Meadows Massacre Site, Washington County, UT.

Wisconsin

• Northwestern Branch, National Home for Disabled Volunteer Soldiers, Milwaukee, WI.

Proposal To Withdraw NHL Designation

• President (Riverboat), St. Elmo, IL.

Proposed Amendments to Existing NHL Designations

• USS Constellation, Baltimore, MD. (Updated Documentation)

• John B. Gough House, Boylston, MA. (Additional Documentation)

• Harry S. Truman Historic District, Independence, MO. (Additional Documentation and Boundary Change)

• Medicine Wheel/Medicine Mountain, Bighorn County, WY. (Updated Documentation, Boundary Change, and Name Change)

B. National Natural Landmarks (NNL) Program

NNL Program matters will be considered in the morning session of the business meeting, during which the Board may consider the following:

Nominations for New NNL Designations

Arizona

• Barfoot Park, Cochise County, AZ.

Colorado

• Hanging Lake, Garfield County, CO.

Oregon

• Round Top Butte, Jackson County, OR.

• The Island, Jefferson County, OR.

Washington

• Kahlotus Ridgetop, Franklin County, WA.

Proposed Amendments to Existing NNL Designation

Colorado

• Golden Fossil Areas, Jefferson County, CO (An addition to the existing Morrison Fossil Area NNL, including a boundary change and name change).

The Board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations as necessary to allow the Board to complete its agenda within the allotted time. Before including your address, telephone number, e-mail address, or other personal identifying information in your comment, you should be aware that your entire comment—including your personal identifying information—may be made publicly available at any time. While you can ask us in your comment to withhold your personal identifying information from public review, we cannot guarantee that we will be able to do so.

Draft minutes of the meeting will be available for public inspection in the 12th floor conference room, 1201 I Street, NW., Washington, DC, about 12 weeks after the meeting.

Dated: January 31, 2011.
Bernard Fagan,
Chief, Office of Policy.

[FR Doc. 2011-2436 Filed 2-2-11; 8:45 am]

BILLING CODE 4312-52-P